SMALL BUSINESS ADMINISTRATION

[Disaster Declaration #14334 and #14335]

Texas Disaster Number TX-00447

AGENCY: U.S. Small Business Administration.

ACTION: Amendment 1.

SUMMARY: This is an amendment of the Presidential declaration of a major disaster for the State of Texas (FEMA-4223-DR), dated 05/29/2015.

Incident: Severe Storms, Tornadoes, Straight-Line Winds and Flooding.

Incident Period: 05/04/2015 and continuing.

Effective Date: 06/05/2015.

Physical Loan Application Deadline Date: 07/28/2015.

EIDL Loan Application Deadline Date: 02/29/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Texas, dated 05/29/2015 is hereby amended to include the following areas as adversely affected by the disaster:

Primary Counties: (Physical Damage and Economic Injury Loans): Bastrop; Blanco; Caldwell; Denton; Eastland; Fort Bend; Gaines; Guadalupe; Henderson; Hidalgo; Johnson; Milam; Montague; Navarro; Rusk; Smith; Travis; Wichita; Williamson; Wise.

Contiguous Counties: (Economic Injury Loans Only):

Texas: Anderson; Andrews; Archer; Austin; Baylor; Bell; Bexar; Bosque; Brooks; Brown; Burleson; Burnet; Callahan; Cameron; Cherokee; Clay; Collin; Comanche; Cooke; Dallas; Dawson; Ellis; Erath; Falls; Fayette; Freestone; Gillespie; Gonzales; Grayson; Gregg; Harrison; Hill; Hood; Jack; Kendall; Kenedy; Lee; Limestone; Llano; Martin; Nacogdoches; Palo Pinto; Panola; Parker; Robertson; Shackelford; Shelby; Somervell; Starr; Stephens; Tarrant; Terry; Upshur; Wharton; Wilbarger; Willacy; Wilson; Yoakum.

New Mexico: Lea.

Oklahoma: Cotton; Jefferson; Love; Tillman.

All other information in the original declaration remains unchanged.

(Catalog of Federal Domestic Assistance Numbers 59002 and 59008)

James E. Rivera,
Associate Administrator for Disaster Assistance.

[FR Doc. 2015-14776 Filed 6-15-15; 8:45 am]

BILLING CODE 8025-01-P